DEPARTMENT OF THE INTERIOR

National Park Service

[NPS-WASO-NRNHL-22112; PPWOCRAD00, PUC00RP14.R50000]

Notice of the December 7, 2016, Meeting of the Cold War Advisory Committee

AGENCY: National Park Service, Interior.

ACTION: Meeting notice.

SUMMARY: Notice is hereby given in accordance with the Federal Advisory Committee Act (5 U.S.C. Appendix 1-16) for a meeting of the Cold War Advisory Committee.

DATES: The public meeting of the Committee will be held on Wednesday, December 7, 2016, from 10 a.m. to 5 p.m. (Eastern).

ADDRESSES: The meeting will be conducted in Meeting Room 201, 2nd floor of the National Park Service, 1201 Eye Street NW., Washington, DC 20005, to discuss the following:

1. Welcome and Introductions

2. Discussion of Revisions to the Draft Cold War National Historic Landmarks Theme Study

3. Discussion of Planning for Publication of the Cold War National Historic Landmarks Theme Study

4. Discussion of Efforts to Nominate Eligible Properties for National Historic Landmarks Designation

FOR FURTHER INFORMATION CONTACT: For information concerning the Cold War Advisory Committee or to request to address the Committee, contact Robie Lange, Historian, National Historic Landmarks Program, National Park Service, 1849 C Street NW., MS 2280, Washington, DC 20240, telephone (202) 354-2257, or email robie_lange@nps.gov.

SUPPLEMENTARY INFORMATION: The Committee meeting will be open to the public. Space and facilities to accommodate the public are limited and attendees will be accommodated on a first-come basis. Opportunities for oral comment will be limited to no more than 3 minutes per speaker and no more than 15 minutes total. The Committee's Chairman will determine how much time for oral comments will be allotted. Anyone may file a written statement with the Committee concerning matters to be discussed.

Comments should be submitted to Robie Lange, Historian, National Historic Landmarks Program, National Park Service, 1849 C Street NW., MS 2280, Washington, DC 20240, telephone (202) 354-2257, or email robie_lange@nps.gov.

Before including your address, telephone number, email address, or other personal identifying information in your comment, you should be aware that your entire comment—including your personal identifying information—may be made publicly available at any time. While you may ask us in your comment to withhold your personal identifying information from public review, we cannot guarantee that we will be able to do so.

Draft minutes of the meeting will be available for public inspection about 12 weeks after the meeting from the National Historic Landmarks Program, National Park Service, 1849 C Street NW., Washington, DC 20240.

Alma Ripps,
Chief, Office of Policy.

[FR Doc. 2016-25542 Filed 10-20-16; 8:45 am]

BILLING CODE 4312-52-P